DEPARTMENT OF DEFENSE

Department of the Army

Final Environmental Impact Statement (FEIS) for Disposal and Reuse of Fort Monroe, VA

AGENCY: Department of the Army, DoD.

ACTION: Notice of Availability (NOA).

SUMMARY: The Department of the Army announces the availability of the FEIS which evaluates the potential environmental and socioeconomic impacts associated with the disposal and reuse of Fort Monroe, Virginia.

DATES: The waiting period for the FEIS will end 30 days after publication of an NOA in the Federal Register by the U.S. Environmental Protection Agency.

ADDRESSES: To obtain a copy of the FEIS contact Ms. Robin Mills, Chief, Directorate of Public Works, 318 Cornog Lane, Fort Monroe, VA 23651 or e-mail request to monr.post.nepapublic@us.army.mil.

SUPPLEMENTARY INFORMATION: The FEIS covers activities associated with the disposal and reuse of Fort Monroe. The 2005 BRAC Commission Report directed the closure of Fort Monroe and the relocation of certain tenant organizations to Fort Eustis, Virginia and Fort Knox, Kentucky. Closure is required no later than September 15, 2011.

Following closure, the property (approximately 565 acres) will be excess to Army needs and the Army proposes to dispose of its remaining real property interests. The Fort Monroe Federal Area Development Authority (FMFADA) developed the Fort Monroe Reuse Plan formally adopted in August 2008. The plan is available as an appendix of the FEIS. On July 1, 2010, the FMFADA will restructure and become the Fort Monroe Authority. After September 15, 2011, when Fort Monroe is no longer used for national defense purposes, there will be property reverting to the Commonwealth of Virginia and property disposed of by the Federal Government. For non-reverting property, there are four alternatives analyzed in the FEIS: Alternative 1, No Action Alternative, under which the Army would continue operations at Fort Monroe at levels similar to those occurring prior to the BRAC Commission's recommendation for closure; Alternative 2, Early Transfer Alternative, under which transfer and reuse of the property would occur before environmental remediation actions have been completed on all individual parcels; Alternative 3, Traditional Disposal Alternative, under which transfer and reuse of the property would occur once environmental remediation is complete on all individual parcels of the installation; and Alternative 4, Caretaker Status Alternative, which begins following the closure of the installation in the event that the Army is unable to dispose of the property, after which time the maintenance of the property would be reduced to minimal activities not inconsistent with the Programmatic Agreement necessary to ensure security, health, and safety, and to avoid physical deterioration of facilities. The Army's preferred alternative for the disposal of Fort Monroe is Alternative 2, the early transfer of non-reverting property. Under this alternative, the Army transfers the non-reverting property before completion of all environmental cleanup. Three reuse scenarios, based on lower bracket, middle bracket, and upper bracket intensity levels of reuse are also evaluated as secondary actions of disposal of Fort Monroe. The FEIS addresses reuse of all property on Fort Monroe, including property that will revert back to the Commonwealth of Virginia. These reuse scenarios encompass the level of reuse expected under the Reuse Plan, which is considered the middle bracket scenario.

For early transfer (Alternative 2) and traditional disposal alternatives (Alternative 3), significant adverse effects would be expected to occur to transportation, and moderate adverse effects would be expected to occur to noise, land use, biological resources, and cultural resources. The caretaker alternative (Alternative 4) would have moderate adverse effects on aesthetic/visual resources, cultural resources, and utilities. Of the three reuse scenarios analyzed in the FEIS, middle and upper bracket reuse would be expected to result in significant adverse effects in the area of transportation. Middle and upper bracket reuse would also be expected to result in moderate adverse effects on noise, land use, biological resources, and cultural resources. Lower bracket reuse would not have any moderate or significant adverse effects. The FEIS identifies potential mitigation and management measures that would decrease the level of adverse effects of disposal and reuse.

A Record of Decision will not be issued earlier than 30 days after this notice. An electronic version of the FEIS can be viewed or downloaded from the following Web site: http://www.hqda.army.mil/acsim/brac/nepa_eis_docs.htm.

Dated: May 26, 2010.
Addison D. Davis, IV,
Deputy Assistant Secretary of the Army (Environment, Safety and Occupational Health).

[FR Doc. 2010-13494 Filed 6-10-10; 8:45 am]

BILLING CODE 3710-08-P